NUCLEAR REGULATORY COMMISSION

[NRC-2016-0144]

Request for a License To Export High-Enriched Uranium; Correction

AGENCY: Nuclear Regulatory Commission.

ACTION: Export license application; correction.

SUMMARY: The U.S. Nuclear Regulatory Commission (NRC) is correcting a notice that was published in the Federal Register (FR) on July 13, 2016, regarding a request from Edlow International Company as Agent for SCK-CEN for a license application (XSNM3771) to export high-enriched uranium to SCK-CEN in Belgium for fuel reload at the BR-2 Research Reactor. This action is necessary to correct the date of the license application and to correct the date the license application was received.

DATES: The correction is effective August 5, 2016.

ADDRESSES: Please refer to Docket ID NRC-2016-0144 when contacting the NRC about the availability of information regarding this document. You may obtain publicly-available information related to this document using any of the following methods:

• Federal Rulemaking Web site: Go to http://www.regulations.gov and search for Docket ID NRC-2016-0144. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

FOR FURTHER INFORMATION CONTACT: Andrea Ferkile, Office of International Programs, U.S. Nuclear Regulatory Commission, Washington DC 20555-0001; telephone: 301-415-8058, email: Andrea.Ferkile@nrc.gov.

SUPPLEMENTARY INFORMATION: In the FR on July 13, 2016, in FR Doc. 2016-16557, on page 45311, in the first column, second row, of the table entitled, “NRC Export License Application—Description of Material,” correct “May 18, 2016” to read “July 07, 2016” and correct “June 03, 2016” to read “July 11, 2016.”

Dated at Rockville, Maryland, this 29th day of July, 2016.
For the Nuclear Regulatory Commission.
Mugeh Afshar-Tous,
Acting Deputy Director, Office of International Programs.

[FR Doc. 2016-18634 Filed 8-4-16; 8:45 am]

BILLING CODE 7590-01-P